DEPARTMENT OF THE INTERIOR

Bureau of Land Management

[LLNVS01000. L71220000.EU0000. LVTFF1604850; N-94619; 11-08807; MO #4500101865; TAS: 14X1109]

Notice of Realty Action: Direct Sale of Public Land in Clark County, NV

AGENCY: Bureau of Land Management, Interior.

ACTION: Notice of realty action.

SUMMARY: The Bureau of Land Management (BLM) is proposing a non-competitive (direct) sale of 3.75 acres of public land in Clark County, Nevada, to the Tabernacle of Praise Church, Inc. (Church) pursuant to the Southern Nevada Public Land Management Act of 1998 (SNPLMA), as amended, to resolve an unauthorized use of public lands. The sale will be subject to the applicable provisions of Section 203 of the Federal Land Policy and Management Act of 1976 (FLPMA) and BLM land sale regulations. The appraised fair market value for the sale parcel is $280,000.

DATES: Interested parties may submit written comments regarding this direct sale until July 17, 2017.

ADDRESSES: Mail written comments to the BLM Las Vegas Field Office, Assistant Field Manager, 4701 North Torrey Pines Drive, Las Vegas, NV 89130.

FOR FURTHER INFORMATION CONTACT: Manuela Johnson, Supervisory Realty Specialist, BLM Las Vegas Field Office at 702-515-5224. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The parcel is located in the City of Las Vegas on the corner of Buffalo Drive and Constantinople Avenue and is legally described as:

Mount Diablo Meridian, Nevada

T. 20 S., R. 60 E.,

Sec. 10, N½SW¼NW¼NW¼NW¼ and SE¼NW¼NW¼NW¼.

The area described contains 3.75 acres.

This sale is in conformance with the BLM Las Vegas Resource Management Plan decisions LD-1 and LD-2, approved on October 5, 1998. The Las Vegas Valley Disposal Boundary Environmental Impact Statement and Record of Decision issued on December 23, 2004, analyzed the sale parcel. The sale complies with Section 203 of FLPMA. Consistent with Section 203 of FLPMA, a tract of public land may be sold where, as a result of approved land use planning, sale of the tract meets the disposal criteria of that section: The tract is difficult and uneconomic to manage because of its location or other characteristics, such as the subject's history of use or current level of development, and is not suitable for management by another Federal department or agency. The subject parcel of land is located in a residential and commercial area. The lands proposed for the direct sale are not needed for Federal purposes and the United States has no present interest in the property. A parcel-specific Determination of National Environmental Policy Act Adequacy (DNA) document numbered DOI-BLM-NV-S010-2016-0104-DNA was prepared in connection with this Notice of Realty Action.

The land also meets the criteria for direct sale under FLPMA, Section 203(a)(3) and 43 CFR 2711.3-3(a), “Direct sales (without competition) may be utilized, when in the opinion of the authorized officer, a competitive sale is not appropriate and the public interest would best be served by a direct sale.” The parcel will be offered through direct sale procedures pursuant to 43 CFR 2711.3-3. The direct sale would not change the status quo in that no other land uses are expected for these lands and, pursuant to 43 CFR 2711.3-3(a)(5), a need exists to resolve inadvertent unauthorized use or occupancy of the lands.

The Church previously held a lease under the Recreation and Public Purposes (R&PP) Act of June 14, 1926. The R&PP Act authorizes the lease or sale of public lands to qualified nonprofit organizations. However, the R&PP Act lease expired and went into default after a number of years. The property is developed and the BLM has declared an unauthorized use of occupancy of the public lands.

In accordance with 43 CFR 2711.2 qualified conveyees must be: (1) A citizen of the United States 18 years of age or older; (2) a corporation subject to the laws of any state or of the United States; (3) a state, state instrumentality, or political subdivision authorized to hold property; or (4) an entity legally capable of conveying and holding lands or interests therein under the laws of the State of Nevada. Evidence of United States citizenship is a birth certificate, passport, or naturalization papers. Failure to submit the above documents to the BLM within 30 days from receipt of the purchase price letter will result in cancellation of the sale and forfeiture of the deposit. Citizenship documents and Articles of Incorporation (as applicable) must be provided to the BLM-Las Vegas Field Office for each sale. The Church is allowed 180 days from the date of the sale to submit the remainder of the full purchase price.

According to SNPLMA as amended, Public Law 105-263 section 4(c), lands identified within the Las Vegas Valley Disposal Boundary are withdrawn from location and entry under the mining laws and from operation under the mineral leasing and geothermal leasing laws until such time as the Secretary terminates the withdrawal or the lands are patented. Any subsequent applications will not be accepted, will not be considered as filed, and will be returned to the applicant. The segregative effect of this Notice terminates upon issuance of a patent or other document of conveyance to such lands.

Terms and Conditions: All minerals for the sale parcel will be reserved to the United States. The patent, when issued, will contain a mineral reservation to the United States for all minerals. In response to requests to clarify this mineral reservation as it relates to mineral materials, such as sand and gravel, we refer interested parties to the regulation at 43 CFR 3601.71(b), which provides that the owner of the surface estate of lands with reserved Federal minerals may “use a minimal amount of mineral materials for . . . personal use” within the boundaries of the surface estate without a sales contract or permit. The regulation provides that all other use, absent statutory or other express authority, requires a sales contract or permit. We also refer interested parties to the explanation of this regulatory language in the preamble to the final rule published in the Federal Register in 2001, which stated that minimal use “would not include large-scale use of mineral materials, even within the boundaries of the surface estate.” 66 FR 58894 (Nov. 23, 2001). Further explanation is contained in BLM Instruction Memorandum No. 2014-085 (April 23, 2014), available on the BLM's Web site at https://www.blm.gov/policy/im-2014-085.

The public land would not be offered for sale to the Church until at least July 31, 2017, at the appraised fair market value of $280,000. A copy of the approved appraisal report is available at the address above. The patent, when issued to the Church (which will become the patentee), will be subject to the following terms, conditions, and reservations:

1. A right-of-way is reserved for ditches or canals constructed by the authority of the United States, Act of August 30, 1890 (43 U.S.C. 945);

2. All mineral deposits in the lands so patented, and to it, or persons authorized by it, the right to prospect for, mine, and remove such deposits from the same under applicable law and regulations to be established by the Secretary of the Interior are reserved to the United States, together with all necessary access and exit rights;

3. The parcel is subject to reservations for road, public utilities and flood control purposes, both existing and proposed, in accordance with the local governing entities' transportation plans;

4. The parcel is subject to all valid existing rights; and

5. An appropriate indemnification clause protecting the United States from claims arising out of the lessee's/patentee's use, occupancy, or occupations on the leased/patented lands.

Pursuant to the requirements established by Section 120(h) of the Comprehensive Environmental Response, Compensation and Liability Act, 42 U.S.C. 9620(h) (CERCLA), as amended, notice is hereby given that the land has been examined and no evidence was found to indicate that any hazardous substances have been stored for 1 year or more, nor had any hazardous substances been disposed of or released on the subject property. To the extent required by law, all parcels are subject to the requirements of Section 120(h) of CERCLA. It is Church's responsibility to be aware of all applicable Federal, state, and local government laws, regulations, and policies that may affect the subject lands, including any required dedication of lands for public uses. It is also the Church's responsibility to be aware of existing or prospective uses of nearby properties. When conveyed out of Federal ownership, the lands will be subject to any applicable laws, regulations, and policies of the applicable local government for proposed future uses. It is the responsibility of the Church to be aware through due diligence of those laws, regulations, and policies, and to seek any required local approvals for future uses. The Church should make itself aware of any Federal or state law or regulation that may affect the future use of the property. Any land lacking access from a public road or highway will be conveyed as such, and future access acquisition will be the responsibility of the Church.

The Church will have until 4:30 p.m., Pacific Standard Time (PST), 30 days from the date of receiving the sale offer to accept the offer and submit a deposit of 20 percent of the purchase price. The Church must remit the remainder of the purchase price within 180 days from the date of receiving the sale offer to the Las Vegas Field Office. Payment must be received in the form of a certified check, postal money order, bank draft, or cashier's check payable to the U.S. Department of the Interior—BLM. Failure to meet conditions established for this sale will void the sale and any funds received will be forfeited. The BLM will not accept personal or company checks.

Arrangements for electronic fund transfer to the BLM for the payment of the balance due must be made a minimum of two weeks prior to the payment date.

In accordance with 43 CFR 2711.3-1(f), within 30 days the BLM may accept or reject any offer to purchase, or interest therein from sale if the BLM authorized officer determines consummation of the sale would be inconsistent with any law, or for other reasons as may be provided by applicable law or regulations. No contractual or other rights against the United States may accrue until the BLM officially accepts the offer to purchase and the full price is paid.

The parcel may be subject to land use applications received prior to publication of this Notice if processing the application would have no adverse effect on the marketability of title, or the fair market value of the parcel. Information concerning the sale, encumbrances of record, appraisals, reservations, procedures, and conditions, CERCLA, and other environmental documents that may appear in the BLM public files for the sale parcel is available for review during business hours, 7:30 a.m. to 4:30 p.m. PST, Monday through Friday, at the BLM-Las Vegas Field Office, except during Federal holidays.

The parcel of land will not be offered for sale prior to July 31, 2017. Only written comments submitted by postal service or overnight mail will be considered as properly filed. Electronic mail, facsimile, or telephone comments will not be considered.

Submit comments on this sale Notice to the address in the ADDRESSES section. Before including your address, phone number, email address, or other personal identifying information in your comment, be advised that your entire comment—including your personal identifying information—may be made publicly available at any time. While you can ask us in your comment to withhold from public review your personal identifying information, we cannot guarantee that we will be able to do so.

Any adverse comments regarding the sale will be reviewed by the BLM Nevada State Director or other authorized official of the Department of the Interior, who may sustain, vacate, or modify this realty action in response to such comments. In the absence of any comments, this realty action will become the final determination of the Department of the Interior.

Authority: 43 CFR 2711.

Nicollee Gaddis,
Acting Assistant Field Manager, Division of Lands.

[FR Doc. 2017-11340 Filed 5-31-17; 8:45 am]

BILLING CODE 4310-HC-P